SMALL BUSINESS ADMINISTRATION

[Declaration of Disaster #P056; Amendment #1]

State of Georgia

In accordance with a notice received from the Department of Homeland Security—Federal Emergency Management Agency—effective October 30, 2004, the above numbered Public Assistance declaration is hereby amended to establish the incident period for this disaster as beginning September 3, 2004, and continuing through October 30, 2004.

All other information remains the same, i.e., the deadline for filing applications for physical damage is November 23, 2004.

(Catalog of Federal Domestic Assistance Program Nos. 59008.)

Dated: November 8, 2004.
Herbert L. Mitchell,
Associate Administrator for Disaster Assistance.

[FR Doc. 04-25310 Filed 11-12-04; 8:45 am]

BILLING CODE 8025-01-P